DEPARTMENT OF THE TREASURY

Bureau of Alcohol, Tobacco and Firearms

[Docket No. 930; ATF O 1130.24]

Delegation Order—Delegation of the Director's Authorities in Subpart C and Subpart I of 27 CFR Part 46

To: All Bureau Supervisors

1. Purpose. This order delegates the authorities of the Director to subordinate ATF officers and prescribes the subordinate ATF officers with whom persons file documents which are not ATF forms.

2. Cancellation. This order cancels ATF O 1130.14, Delegation Order—Delegation of the Director's Authorities in Subpart I of 27 CFR Part 296, dated 1/11/2000, and the portion referring to part 296 in ATF O 1130.15, Delegation of the Director's Authorities in 27 CFR parts 270, 275, and 296, dated 12/22/1999.

3. Background. The Director has the authority to take final action on matters relating to tobacco products and cigarette papers and tubes. Certain of these authorities were delegated to lower organizational levels in ATF O 1130.14 and ATF O 1130.15. ATF is currently restructuring the part numbering system in title 27 of the Code of Federal Regulations (CFR). The miscellaneous regulations relating to tobacco products and cigarette papers and tubes, previously located in 27 CFR part 296, are now recodified as 27 CFR part 46. Due to this restructuring, ATF O 1130.14 and a portion of ATF O 1130.15 must be cancelled and a new order must be issued to reflect the new part number.

4. Delegations. Under the authority vested in the Director, Bureau of Alcohol, Tobacco and Firearms, by Treasury Department Order No. 120-1 (formerly 221), dated June 6, 1972, and by 26 CFR 301.7701-9, this ATF order delegates certain authorities to take final action prescribed in subpart C and subpart I of part 46 of title 27 CFR to subordinate officers. Also, this ATF order prescribes the subordinate officers with whom applications, notices, and reports required by subpart C and subpart I of part 46 of title 27 CFR, which are not ATF forms, are filed. The attached table identifies the regulatory sections, documents and authorized ATF officers. The authorities in the table may not be redelegated. An ATF organization chart showing the directorates and the positions involved in this delegation order has been attached.

5. Questions. Any questions concerning this order should be directed to the Regulations Division at 202-927-8210.

Bradley A. Buckles,
Director.

Table of Authorities, Documents To Be Filed, and Authorized Officials
Regulatory section | Officer(s) authorized to act or receive document
§ 46.77 | Unit supervisor, National Revenue Center.
§ 46.242 | Director of Industry Operations.
§ 46.244 | Inspector, Specialist or Special Agent.
§ 46.253 | Section Chief, National Revenue Center (NRC), to approve (by affixing the signature of the Director) claims of more than $5,000 for remission, abatement, credit, or refund of tax.
§ 46.253 | Unit Supervisor, NRC, to approve (by affixing the signature of the Director) claims of $5,000 or less for remission, abatement, credit, or refund of tax.
§ 46.263 | Chief, Regulations Division. If the alternate method or procedure does not affect import or export recordkeeping, Chief, NRC, may act upon the same alternate method that has been approved by the Chief, Regulations Division.
§ 46.264 | Chief, Regulations Division. If the alternate method or procedure does not affect import or export recordkeeping, Chief, NRC, may act upon the same alternate method that has been approved by the Chief, Regulations Division.
§ 46.271 | Inspector, Specialist or Special Agent.
§ 46.272 | Director of Industry Operations.
§ 46.274 | Section Chief, NRC.

BILLING CODE 4810-31-P

[FR Doc. 01-25845 Filed 10-12-01; 8:45 am]

BILLING CODE 4810-31-C